DEPARTMENT OF AGRICULTURE

Forest Service

36 CFR Part 200

RIN 0596-AD59

Organization, Functions, and Procedures; Functions and Procedures; Forest Service Functions

AGENCY: Forest Service, USDA.

ACTION: Advance notice of proposed rulemaking; extension of comment period.

SUMMARY: The Forest Service (Agency), United States Department of Agriculture (USDA), published an advance notice of proposed rulemaking in the Federal Register on April 21, 2023 initiating a 60-day comment period. The advance notice invited public comment on the following topic and additional questions: Given that climate change and related stressors are resulting in increasing impacts with rapid and variable rates of change on national forests and grasslands, how should the Forest Service adapt current policies to protect, conserve, and manage the national forests and grasslands for climate resilience, so that the Agency can provide for ecological integrity and support social and economic sustainability over time? In response to feedback from prospective commenters stating that they would benefit from additional time to adequately consider and respond to the advance notice, USDA's Forest Service has determined that an extension of the comment period by an additional 30 days, from June 20, 2023 to July 20, 2023, is appropriate.

DATES: The end of the comment period for the advance notice of proposed rulemaking published on April 21, 2023 (88 FR 24497) is extended from June 20, 2023, until July 20, 2023.

ADDRESSES: You may send comments by any of the following methods:

Preferred: Federal eRulemaking Portal www.regulations.gov. Mail: Director, Policy Office, 201 14th Street SW, Mailstop 1108, Washington, DC 20250-1124.

All comments received will be posted to www.regulations.gov, including any personal information provided. The public may inspect comments received at www.regulations.gov. Do not submit any information you consider to be private, confidential business information, or other information, of which the disclosure is restricted by statute.

The Forest Service is planning public engagement sessions. For additional information related to the advanced notice of proposed rulemaking and the public engagements visit: https://www.fs.usda.gov/managing-land/sc/policy-initiatives.

FOR FURTHER INFORMATION CONTACT: Christopher Swanston, Director, Office of Sustainability and Climate, (202) 205-0833. Individuals who use telecommunication devices for the deaf (TDD) may call the Federal Information Relay Service at 1-800-877-8339, 24 hours a day, every day of the year, including holidays.

SUPPLEMENTARY INFORMATION: Climate change and related stressors, such as wildfire, drought, insects and diseases, extreme weather events, and chronic stress on ecosystems are resulting in increasing impacts with rapid and variable rates of change on national forests and grasslands. These impacts can be compounded by fire suppression, development in the wildland-urban interface, and timber harvest and reforestation practices that are not designed and implemented considering current and projected climate change.

Multiple Forest Service plans, policies, and regulations already include direction on climate adaptation. However, given (1) increasing rates of change, and (2) new information and ways of assessing and visualizing risk, USDA and the Forest Service published an advance notice of proposed rulemaking on April 21, 2023 (88 FR 24497) to invite public feedback and to request Tribal consultation on a range of potential options to adapt current policies or develop new policies and actions to better anticipate, identify, and respond to rapidly changing conditions associated with climate-amplified impacts.

An extension of the comment period will provide additional opportunity for the public to consider the advance notice and prepare comments to address the questions posed therein. Therefore, the USDA Forest Service is extending the comment period from June 20, 2023 to July 20, 2023.

Christopher French,
Deputy Chief, National Forest System, Forest Service.

[FR Doc. 2023-12267 Filed 6-7-23; 8:45 am]

BILLING CODE 3411-15-P